FEDERAL COMMUNICATIONS COMMISSION

47 CFR Chapter I

[DA 11-1333]

Possible Revision or Elimination of Rules

AGENCY: Federal Communications Commission.

ACTION: Review of regulations; comments requested.

SUMMARY: This document invites members of the public to comment on the Federal Communication Commission's (FCC's or Commission's) rules to be reviewed pursuant to section 610 of the Regulatory Flexibility Act of 1980, as amended (RFA). The purpose of the review is to determine whether Commission rules whose ten-year anniversary dates are in the year 2010, as contained in the Appendix, should be continued without change, amended, or rescinded in order to minimize any significant impact the rules may have on a substantial number of small entities. Upon receipt of comments from the public, the Commission will evaluate those comments and consider whether action should be taken to rescind or amend the relevant rule(s).

DATES: Comments may be filed on or before November 28, 2011.

FOR FURTHER INFORMATION CONTACT: Sharon K. Stewart, Chief of Staff, Office of Communications Business Opportunities (OCBO), Federal Communications Commission, (202) 418-0990. People with disabilities may contact the FCC to request reasonable accommodations (accessible format documents, sign language interpreters, CART, etc.) by e-mail: FCC504@fcc.gov or phone: 202-418-0530 or TTY: 202-418-0432.

ADDRESSES: Federal Communications Commission, Office of the Secretary, 445 12th Street, SW., Washington, DC 20554.

SUPPLEMENTARY INFORMATION: Each year the Commission will publish a list of ten-year old rules for review and comment by interested parties pursuant to the requirements of section 610 of the RFA.

FCC Seeks Comment Regarding Possible Revision or Elimination of Rules Under The Regulatory Flexibility Act, 5 U.S.C. Section 610

CB Docket No. 11-72

Comment Period Closes: November 28, 2011.

1. Pursuant to the Regulatory Flexibility Act (RFA), see 5 U.S.C. 610, the FCC hereby publishes a plan for the review of rules adopted by the agency in calendar year 2000 which have, or might have, a significant economic impact on a substantial number of small entities. The purpose of the review is to determine whether such rules should be continued without change, or should be amended or rescinded, consistent with the stated objective of section 610 of the RFA, to minimize any significant economic impact of such rules upon a substantial number of small entities.

2. This document lists the FCC regulations to be reviewed during the next twelve months. In succeeding years, as here, the Commission will publish a list for the review of regulations promulgated ten years preceding the year of review.

3. In reviewing each rule in a manner consistent with the requirements of section 610 the FCC will consider the following factors:

(a) The continued need for the rule;

(b) The nature of complaints or comments received concerning the rule from the public;

(c) The complexity of the rule;

(d) The extent to which the rule overlaps, duplicates, or conflicts with other federal rules and, to the extent feasible, with state and local governmental rules; and

(e) The length of time since the rule has been evaluated or the degree to which technology, economic conditions, or other factors have changed in the area affected by the rule.

4. Appropriate information has been provided for each rule, including a brief description of the rule and the need for, and legal basis of, the rule. The public is invited to comment on the rules chosen for review by the FCC according to the requirements of section 610 of the RFA. All relevant and timely comments will be considered by the FCC before final action is taken in this proceeding.

Comments may be filed using the Commission's Electronic Comment Filing System (“ECFS”) or by filing paper copies. Comments filed through the ECFS may be sent as an electronic file via the Internet to http://www.fcc.gov/cgb/ecfs/. Generally, only one copy of an electronic submission must be filed. In completing the transmittal screen, commenters should include their full name, U.S. Postal Service mailing address, and the applicable docket (proceeding) and “DA” number.

Parties may also submit an electronic comment by Internet e-mail. To obtain filing instructions for e-mail comments, commenters should send an e-mail to ecfs@fcc.gov, and should include the following words in the body of the message: “get form.” A sample form and directions will be sent in reply. Parties who choose to file by paper must file an original and one copy of each filing. Again, please include the docket (proceeding) and “DA” number.

Filings can be sent by hand or messenger delivery, by commercial overnight courier, or by first-class or overnight U.S. Postal Service mail. All hand-delivered or messenger-delivered paper filings for the Commission's Secretary must be delivered to FCC Headquarters at 445 12th St., SW., Room TW-A325, Washington, DC 20554. Again, please include the docket (proceeding) and “DA” number.

The filing hours at this location are 8 a.m. to 7 p.m.

All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

• All filings must be addressed to the Commission's Secretary, Office of the Secretary, Federal Communications Commission.

Comments in this proceeding will be available for public inspection and copying during regular business hours at the FCC Reference Information Center, Portals II, 445 12th Street, SW., Room CY-A257, Washington, DC 20554. They may also be purchased from the Commission's duplicating contractor, Best Copy and Printing, Inc., 445 12th Street, SW., Room CY-B402, Washington, DC 20554, telephone 202-488-5300 or 800-378-3160, facsimile 202-488-5563, or via e-mail at fcc@bcniweb.com. To request materials in accessible formats for people with disabilities (Braille, large print, electronic files, audio format), send an e-mail to fcc504@fcc.gov or call the Consumer & Governmental Affairs Bureau at 202-418-0530 (voice), 202-418-0432 (TTY).

For information on the requirements of the RFA, the public may contact Carolyn Fleming Williams, Senior Deputy Director, Office of Communications Business Opportunities, 202-418-0990 or visit http://www.fcc.gov/ocbo.

Federal Communications Commission.
Thomas A. Reed,
Director, Office of Communications Business Opportunities.

Appendix

List of rules for review pursuant to the Regulatory Flexibility Act of 1980, 5 U.S.C. 610, for the ten-year period beginning in the year 2000 and ending in the year 2010. All listed rules are in Title 47 of the Code of Federal Regulations.

Part 0—Commission Organization

Subpart A—Organization

Brief Description: Section 0.185 of the rules sets forth the responsibilities of the Bureaus and Offices in providing assistance to the Chief, Public Safety and Homeland Security Bureau, in the performance of that person's duties with respect to homeland security, national security, emergency management and preparedness, disaster management, defense, and related activities. Section 0.185(e) requires the head of each Bureau and Office to either serve as Public Safety/Homeland Security Liaison to the Public Safety and Homeland Security Bureau or designate a Deputy Chief of the Bureau or Office to serve as liaison.

Need: This rule ensures that the public safety initiatives of the Public Safety and Homeland Security Bureau will be coordinated efficiently and comprehensively with all the Commission's regulatory activities.

Legal Basis: 47 U.S.C. 151, 154(i), 154(j), 155b, 155(c) and 303(r).

Section Number and Title:

0.185(e)—Responsibilities of the bureaus and staff offices.

Subpart B—Delegations of Authority

Brief Description: These rules prescribe the duties that the Commission authorizes to be performed by its various Bureaus and Offices. Section 0.251 delegates authority to the Office of General Counsel. Section 0.251(i) states that the General Counsel may perform all administrative determinations provided for by the Debt Collection Improvement Act of 1996.

Need: This rule allows the efficient resolution of monetary claims of the United States Government that arise from the activities of the Commission.

Legal Basis: 31 U.S.C. 3711; 47 U.S.C. 152, 153, 154, 155, 301, 303, 307, 308, 309, 315 and 317.

Section Number and Title:

0.251(i)—Authority delegated [to General Counsel].

Part 1—Practice and Procedure

Subpart Q—Competitive Bidding Proceedings

Brief Description: The Part 1 rules state the general rules of practice and procedure before the Federal Communications Commission. Subpart Q sets forth the provisions implementing section 309(j) of the Communications Act of 1934, as amended, authorizing the Commission to employ competitive bidding procedures to resolve mutually exclusive applications for certain initial licenses.

Need: These rules are needed to implement the Commission's competitive bidding authority under section 309(j) of the Communications Act of 1934, as amended, including the designated entity and tribal land bidding credit programs.

Legal Basis: 47 U.S.C. 151, 154(i), 154(j), 155, 157, 225, 303(r) and 309(j).

Section Number and Title:

1.2107(e)—Submission of down payment and filing of long-form applications.

1.2110(b), (c), (f)(3)—Designated entities.

Subpart V—Implementation of Section 706 of the Telecommunications Act of 1996; Commission Collection of Advanced Telecommunications Capability Data

Brief Description: Part 1 contains rules relating to Commission practices and procedures. Subpart V sets forth the rules by which certain commercial and government-controlled entities report data to the Commission concerning the deployment of advanced telecommunications capability, defined pursuant to 47 U.S.C. 157 as “high-speed, switched, broadband telecommunications capability that enables users to originate and receive high-quality voice, data, graphics, and video telecommunications using any technology,” and the deployment of services that are competitive with advanced telecommunications capability.

Need: These rules are needed to implement the Commission's data collection authority with regard to the deployment of advanced telecommunications capabilities pursuant to section 706 of the Telecommunications Act of 1996.

Legal Basis: 47 U.S.C. 151, 154(i), 154(j), 155, 225, 303(r) and 309.

Section Number and Title:

1.7000—Purpose.

1.7001—Scope and content of filed reports.

1.7002—Frequency of reports.

Part 20—Commercial Mobile Radio Services

Brief Description: These rules make following adjustments to the deployment schedule that must be followed by wireless carriers that choose to implement enhanced 911 Phase II service using a handset-based technology. The rules defer the date for initial distribution of Automatic Location Identification (ALI)-capable handsets by seven months, adjust the timetable for carriers to meet certain interim benchmarks for activating new ALI-capable handsets, defer the date by which a carrier must achieve full penetration of ALI-capable handsets until December 31, 2005, modify the manner in which the Commission defines full penetration by adopting a requirement that carriers achieve 95 percent penetration of ALI-capable handsets by the December 31, 2005 date, eliminate the separate handset phase-in schedule triggered by a request from a Public Safety Answering Point, and extend the deadline for carriers to file Phase II enhanced 911 implementation reports.

Need: These rules establish a more practical, understandable, and workable schedule for implementation of handset-based ALI solutions for enhanced 911 Phase II service.

Legal Basis: 47 U.S.C. 154, 160, 251-254, 303, and 332 unless otherwise noted.

Section Number and Title:

20.18(g)(1), (g)(2); and 20.18(i)—911 service.

Part 22—Public Mobile Services

Subpart H—Cellular Radiotelephone Service

Brief Description: Part 22 contains the rules relating to the Public Mobile Services, specifically, the rules establishing the requirements and conditions under which radio stations may be licensed and used in those services. Subpart H sets forth the rules governing the licensing and operation of cellular radiotelephone systems.

Need: The rule establishes the terms and conditions under which parties in this service can seek and obtain approval for partitioning and/or disaggregation of a license.

Legal Basis: 47 U.S.C. 154, 222, 303, 309 and 332.

Section Number and Title:

22.948—Partitioning and disaggregation.

Part 24—Personal Communications Services

Subpart D—Narrowband PCS

Brief Description: Part 24 contains the rules relating to the Personal Communications Services (PCS), specifically, the rules establishing the requirements and conditions under which radio stations may be licensed and used in those services. Subpart D sets forth the rules governing the licensing and operation of narrowband PCS systems authorized in the 901-902, 930-931, and 940-941 MHz bands (900 MHz band).

Need: The rule establishes the terms and conditions under which parties in this service can seek and obtain approval for partitioning and/or disaggregation of a license.

Legal Basis: 47 U.S.C. 154, 301, 302, 303, 309 and 332.

Section Number and Title:

24.104—Partitioning and disaggregation.

Subpart F—Competitive Bidding Procedures for Narrowband PCS

Brief Description: Part 24 contains the rules relating to the Personal Communications Services (PCS), specifically, the rules establishing the requirements and conditions under which radio stations may be licensed and used in those services. Subpart F sets forth the rules governing mutually exclusive initial applications for narrowband PCS service licenses, which are subject to competitive bidding.

Need: These rules are needed to implement the Commission's competitive bidding authority under section 309(j) of the Communications Act of 1934, as amended.

Legal Basis: 47 U.S.C. 154, 301, 302, 303, 309 and 332.

Section Number and Title:

24.321—Designated entities.

Subpart H—Competitive Bidding Procedures for Broadband PCS

Brief Description: Part 24 contains the rules relating to the Personal Communications Services (PCS), specifically, the rules establishing the requirements and conditions under which radio stations may be licensed and used in those services. Subpart H sets forth the provisions implementing section 309(j) of the Communications Act of 1934, as amended, authorizing the Commission to employ competitive bidding procedures to resolve mutually exclusive applications for initial licenses.

Need: These rules are needed to set forth licensing requirements and to implement the Commission's competitive bidding authority under 47 U.S.C. 309(j).

Legal Basis: 47 U.S.C. 151, 154, 155, 157, 225, 301, 302, 303, 309 and 332.

Section Number and Title:

24.709—Eligibility for licenses for frequency Blocks C or F.

Subpart I—Interim Application, Licensing, and Processing Rules for Broadband PCS

Brief Description: Part 24 contains the rules relating to the Personal Communications Services (PCS), specifically, the rules establishing the requirements and conditions under which radio stations may be licensed and used in those services. Subpart I sets forth the rules governing interim applications, licensing, and other procedural rules for broadband PCS.

Need: This rule clarifies that no frequency Block C or Block F won in closed bidding can be assigned or transferred unless the application for assignment or transfer of control is filed on or after the date the initial licensee has notified the Commission that it has met its five-year construction build-out requirement.

Legal Basis: 47 U.S.C. 154, 301, 302, 303, 309 and 332.

Section Number and Title:

24.839(a)(6)—Transfer of control or assignment of license.

Part 27—Miscellaneous Wireless Communications Services

Subpart A—General Information

Brief Description: Part 27 contains the Commission rules relating to miscellaneous wireless communications services (WCS), specifically, the conditions under which spectrum is made available and licensed for the provision of wireless communications services in the 2305-2320 MHz and 2345-2360 MHz; 746-763 MHz, 775-793 MHz, and 805-806 MHz; 698-746 MHz; (4) 1390-1392 MHz; 1392-1395 MHz and 1432-1435 MHz; 1670-1675 MHz; 1710-1755 MHz and 2110-2155 MHz; and 2495-2690 MHz bands. Subpart A sets for the conditions and parameters under which WCS licenses will be authorized.

Need: The rules set forth the availability of certain frequencies and services areas that certain WCS licensees may use.

Legal Basis: 47 U.S.C. 154, 301, 302, 303, 307, 309, 332, 336 and 337.

Section Number and Title:

27.5(b)—Frequencies.

27.6(b)—Service areas.

Subpart B—Applications and Licenses

Brief Description: Part 27 contains the Commission rules relating to miscellaneous wireless communications services (WCS), specifically, the conditions under which spectrum is made available and licensed for the provision of wireless communications services in the 2305-2320 MHz and 2345-2360 MHz; 746-763 MHz, 775-793 MHz, and 805-806 MHz; 698-746 MHz; (4) 1390-1392 MHz; 1392-1395 MHz and 1432-1435 MHz; 1670-1675 MHz; 1710-1755 MHz and 2110-2155 MHz; and 2495-2690 MHz bands. Subpart B sets forth the terms and conditions under which parties may apply and receive authorization to operate a WCS system.

Need: These rules clarify that an applicant and licensee may provide a variety of services (e.g., common carrier, private internal, broadcast, etc.) within a single authorization, provided the licensee complies with all other applicable Commission rules; they also establish the procedural rules that applicants must follow to obtain Commission authorization for a given WCS service.

Legal Basis: 47 U.S.C. 154, 301, 302, 303, 307, 309, 332, 336 and 337.

Section Number and Title:

27.10—Regulatory status.

27.11(c)—Initial authorization.

Subpart C—Technical Standards

Brief Description: Part 27 contains the Commission rules relating to miscellaneous wireless communications services (WCS), specifically, the conditions under which spectrum is made available and licensed for the provision of wireless communications services in the 2305-2320 MHz and 2345-2360 MHz; 746-763 MHz, 775-793 MHz, and 805-806 MHz; 698-746 MHz; (4) 1390-1392 MHz; 1392-1395 MHz and 1432-1435 MHz; 1670-1675 MHz; 1710-1755 MHz and 2110-2155 MHz; and 2495-2690 MHz bands. Subpart C sets forth the various technical standards with which a WCS licensee must comply.

Need: These rules set forth emission limitations for WCS licensees in various bands; establish standards such that WCS licensees will not harmfully interfere with television or DTV broadcasting; and establish procedures and consequences for when a WCS licensee, either voluntarily or involuntarily, discontinues operations.

Legal Basis: 47 U.S.C. 154, 301, 302, 303, 307, 309, 332, 336 and 337.

Section Number and Title:

27.53(c), (d), (e)—Emission limits.

27.60—TV/DTV interference protection criteria.

27.66—Discontinuance, reduction, or impairment of service.

Subpart F—Competitive Bidding Procedures for the 698-806 MHz Band

Brief Description: Part 27 contains the Commission rules relating to miscellaneous wireless communications services (WCS), specifically, the conditions under which spectrum is made available and licensed for the provision of wireless communications services in the 2305-2320 MHz and 2345-2360 MHz; 746-763 MHz, 775-793 MHz, and 805-806 MHz; 698-746 MHz; (4) 1390-1392 MHz; 1392-1395 MHz and 1432-1435 MHz; 1670-1675 MHz; 1710-1755 MHz and 2110-2155 MHz; and 2495-2690 MHz bands. Subpart F sets forth the rules by which mutually exclusive applications in the 698-806 MHz band will be considered.

Need: These rules implement the Commission's competitive bidding authority under 47 U.S.C. 309(j) for initial applications in the 698-806 MHz bands.

Legal Basis: 47 U.S.C. 154, 301, 302, 303, 307, 309, 332, 336 and 337.

Section Number and Title:

27.501—746-763 MHz, 775-793 MHz, and 805-806 MHz bands subject to competitive bidding.

27.502—Designated entities.

Subpart G—Guard Band A and B Blocks (757-758/787-788 MHz and 775-776/805-806 MHz Bands)

Brief Description: Part 27 contains the Commission rules relating to miscellaneous wireless communications services (WCS), specifically, the conditions under which spectrum is made available and licensed for the provision of wireless communications services in the 2305-2320 MHz and 2345-2360 MHz; 746-763 MHz, 775-793 MHz, and 805-806 MHz; 698-746 MHz; (4) 1390-1392 MHz; 1392-1395 MHz and 1432-1435 MHz; 1670-1675 MHz; 1710-1755 MHz and 2110-2155 MHz; and 2495-2690 MHz bands. Subpart G sets forth the rules under which guard band A and B block licensees may operate.

Need: These rules establish the procedural parameters under which a guard band A and B block licensee may receive an authorization and operate, including the requirements should such a licensee lease a portion of its spectrum.

Legal Basis: 47 U.S.C. 154, 301, 302, 303, 307, 309, 332, 336 and 337.

Section Number and Title:

27.601—Authority and coordination requirements.

27.602—Lease agreements.

27.604—Limitation on licenses won at auction.

27.607—Performance requirements and annual reporting requirement.

Part 51—Interconnection

Subpart C—Obligations of All Local Exchange Carriers

Brief Description: This subsection generally implements section 251(c) of the Communications Act of 1934, as amended. Section 51.230 provides that advanced services loop technologies are presumed acceptable for deployment under specific circumstances. It further provides that incumbent local exchange carriers cannot deny a carrier's request to deploy a technology that is presumed acceptable for deployment without first demonstrating to the relevant state commission that deployment of that technology would significantly degrade performance of other advanced services or traditional voiceband services. Finally, a carrier seeking to establish that the deployment of a specific technology falls within the presumption of acceptability bears the burden of demonstrating to the relevant state commission that its proposed deployment meets the threshold for a presumption of acceptability and will not, in fact, significantly degrade performance of other advanced services or traditional voice band services.

Need: These rules are necessary to foster a competitive market in the telecommunications industry, and to promote the deployment of broadband infrastructure and other network investment. These rules also ensure that competitors receive prompt and accurate notice of changes that could affect their ability to interconnect with the incumbent's network.

Legal Basis: 47 U.S.C. 251(a), 251(c)(2) and (6) and 251(d).

Section Number and Title:

51.230—Presumption of acceptability for deployment of an advanced services loop technology.

Brief Description: This subsection generally implements section 251(c) of the Communications Act of 1934, as amended. Section 51.231 provides that incumbent local exchange carriers must provide particular information to carriers requesting access to a loop or high-frequency portion of the loop to provide advanced services. The requesting carrier must provide to the incumbent LEC information on the type of technology the carrier seeks to deploy, both at the time it seeks access to a loop or high frequency portion of a loop to provide advanced services and when notifying the incumbent LEC of any proposed change in the advanced services technology that the carrier uses on the loop.

Need: These rules are necessary to foster a competitive market in the telecommunications industry, and to promote the deployment of broadband infrastructure and other network investment. These rules also ensure that competitors receive prompt and accurate notice of changes that could affect their ability to interconnect with the incumbent's network.

Legal Basis: 47 U.S.C. 251(a), 251(c)(2) and (6) and 251(d).

Section Number and Title:

51.231—Provision of information on advanced services deployment.

Brief Description: This subsection generally implements section 251(c) of the Communications Act of 1934, as amended. Section 51.232 prohibits incumbent local exchange carriers from designating, segregating or reserving particular loops or binder groups for use solely by any particular advanced services loop technology, except for loops on which a known disturber is deployed. The rule also specifies that any party seeking designation as a known disturber should file a petition for declaratory ruling with the Commission.

Need: These rules are necessary to foster a competitive market in the telecommunications industry, and to promote the deployment of broadband infrastructure and other network investment. These rules also ensure that competitors receive prompt and accurate notice of changes that could affect their ability to interconnect with the incumbent's network.

Legal Basis: 47 U.S.C. 251(a), 251(c)(2) and (6) and 251(d).

Section Number and Title:

51.232—Binder group management.

Brief Description: This subsection generally implements section 251(c) of the Communications Act of 1934, as amended. Section 51.233 sets forth the steps that must be taken by a carrier claiming that a deployed advanced service is significantly degrading the performance of other advanced services, including notifying the deploying carrier and allowing that carrier a reasonable opportunity to correct the problem. The rule provides that, where a carrier demonstrates that a deployed technology is significantly degrading the performance of other advanced services or traditional voice-band services, the deploying carrier must discontinue deployment of that technology and migrate its customers to technologies that will not significantly degrade the performance of other such services. The rule further specifies that, if the asserted degradation goes unresolved, the carrier whose services are being degraded must make a showing of degradation before the relevant state commission.

Need: These rules are necessary to foster a competitive market in the telecommunications industry, and to promote the deployment of broadband infrastructure and other network investment. These rules also ensure that competitors receive prompt and accurate notice of changes that could affect their ability to interconnect with the incumbent's network.

Legal Basis: 47 U.S.C. 251(a), 251(c)(2) and (6) and 251(d).

Section Number and Title:

51.233—Significant degradation of services caused by deployment of advanced services.

Subpart D—Additional Obligations of Incumbents Local Exchange Carriers

Brief Description: This subsection implements section 251(c) of the Communications Act of 1934, as amended. Section 51.323(l) sets forth deadlines within which an incumbent LEC must offer to provide, and provide, all forms of physical collocation, except in circumstances where a state sets its own deadlines or the incumbent LEC has demonstrated to the state commission that physical collocation is not practical for technical reasons or because of space limitations.

Need: These rules are necessary to foster a competitive market in the telecommunications industry, and to promote the deployment of broadband infrastructure and other network investment. They help ensure that competitors are able to collocate incumbent LEC premises in a timely manner, in accordance with section 251(c)(6) of the Communications Act.

Legal Basis: 47 U.S.C. 251(c)(6).

Section Number and Title:

51.323(l)—Standards for physical collocation and virtual collocation.

Subpart G—Resale

Brief Description: These subsections generally implement section 251(b)(5) of the Communications Act of 1934, as amended. Sections 51.605(c) through (e) help define which incumbent LEC services are subject to the resale obligations in section 251(b)(5) and other Commission rules. These rules exempt from the scope of that resale obligation exchange-access services (except to the extent that they are advanced telecommunications services that are sold on a retail basis to residential and business end-users that are not telecommunications carriers) and advanced telecommunications services sold to ISPs as an input component to the ISPs' retail Internet service offerings. These rules also prohibit the incumbent LEC from placing restrictions on the resale of such services in certain circumstances.

Need: These rules are necessary to ensure that the incumbent LECs and their competitors understand the scope of the incumbent LECs resale obligations under section 251(b)(5).

Legal Basis: 47 U.S.C. 251(b)(5).

Section Number and Title:

51.605(c) through (e)—Additional obligations of incumbent local exchange carriers.

Part 52—Numbering

Subpart A—Scope and Authority

Brief Description: Section 52.5(i) sets forth the definition of “service provider” as used in the Commission's rules governing numbering.

Need: This rule is necessary to allow the Commission to monitor closely the way numbering resources are used within the North American Numbering Plan (“NANP”).

Legal Basis: 47 U.S.C. 201-205 and 251.

Section Number and Title:

52.5(i)—Definitions.

Subpart B—Administration

Brief Description: Section 52.7(g) through (j) sets forth definitions of terms used in the Commission's rules governing thousands-block pooling.

Need: This rule is necessary to allow the Commission to monitor closely the way numbering resources are used within the NANP.

Legal Basis: 47 U.S.C. 201-205 and 251.

Section Number and Title:

52.7(g) through (j)—Definitions.

Brief Description: Section 52.15(f) through (j) sets forth a mandatory data reporting requirement, a uniform set of categories of numbers for which carriers must report their utilization, requirements for applications for numbering resources, a utilization threshold framework to increase carrier accountability and incentives to use numbers efficiently, and procedures for reclamation of numbering resources.

Need: This rule is necessary to allow the Commission to monitor closely the way numbering resources are used within the NANP.

Legal Basis: 47 U.S.C. 201-205 and 251.

Section Number and Title:

52.15(f) through (j)—Central office code administration.

Subpart C—Number Portability

Brief Description: Section 52.20 specifies that all carriers capable of providing local number portability must participate in thousands-block number pooling where it is implemented and consistent with the national thousands-block number pooling framework established by the Commission. The rule requires that all carriers required to participate in thousands-block number pooling must donate thousands-blocks with less than ten percent contamination to the thousands-block number pool for the rate center within which the numbering resources are assigned. However, the rule permits those service providers to maintain at least one thousands-block per rate center, even if less than ten percent contaminated, as an initial block or footprint block. Telephone numbers assigned to customers of service providers from donated thousands-blocks that are contaminated will be ported back to the donating service provider. Finally, the rule provides for a Thousands-Block Pooling Administrator.

Need: This rule is necessary to address and resolve one of the major factors that contributes to numbering resource exhaust: The allocation of numbers in blocks of 10,000, irrespective of the carrier's actual need for new numbers.

Legal Basis: 47 U.S.C. 201-205 and 251.

Section Number and Title:

52.20—Thousands-block number pooling.

Part 54—Universal Service

Subpart D—Universal Service Support for High Cost Areas

Brief Description: These rules specify the requirements for the high-cost support mechanism. These rules provide requirements for how high-cost support will be calculated and distributed to eligible telecommunications providers.

Need: In implementing statutory requirements for the high-cost program of the universal service support mechanism, these rules ensure that rates in rural, insular and high-cost areas are “reasonably comparable” to rates charged for similar services in urban areas.

Legal Basis: 47 U.S.C. 254(b).

Section Numbers and Title:

54.311(d)—Interim hold-harmless support for non-rural carriers.

Subpart E—Universal Service Support for Low-Income Consumers

Brief Description: These rules specify the requirements for the support mechanism for low-income consumers. These rules provide the eligibility requirements for low-income consumers receiving discounted rates for services under the Lifeline and Link-up programs and the requirements for how reimbursements for low-income support will be calculated and distributed to eligible telecommunications providers.

Need: In implementing statutory requirements for the low-income program of the universal service support mechanism, these rules ensure that low-income consumers, including eligible residents of Tribal lands, have access to quality services at just, reasonable, and affordable rates.

Legal Basis: 47 U.S.C. 151, 154(i), 201, 205 and 254(b).

Section Numbers and Titles:

54.400(e)—Terms and definitions.

54.403(a)(4)—Lifeline support amount.

54.409(c)—Consumer qualification for Lifeline.

54.411(d)—Link-Up program defined.

Subpart J—Interstate Access Universal Service Support Mechanism

Brief Description: These rules provide requirements for the calculation and distribution of support to price-cap carriers as implicit universal service subsidies are removed from their interstate-access rates.

Need: In implementing the statutory requirements, these rules ensure that the universal service interstate-access support mechanism is specific, predictable and sufficient as it moves from implicit to explicit subsidies.

Legal Basis: 47 U.S.C. 151, 154(i), 154(j), 201-209, 218-222, 254 and 403.

Section Numbers and Titles:

54.800—Terms and definitions.

54.801—General.

54.802—Obligations of local exchange carriers and the Administrator.

54.803—Universal service zones.

54.804—Preliminary minimum access universal service support for a study area calculated by the Administrator.

54.805—Zone and study area above benchmark revenues calculated by the Administrator.

54.806—Calculation by the Administrator of interstate access universal service support for areas served by price cap local exchange carriers.

54.807—Interstate access universal service support.

54.808—Transition provisions and periodic calculation.

54.809—Carrier certification.

Part 61—Tariffs

Subpart A—General

Brief Description: The Part 61 rules are designed to implement the provisions of sections 201, 202, 203, and 204 of the Communications Act of 1934, as amended, and help ensure that rates are just, reasonable, and not unjustly or unreasonably discriminatory. These rules govern the filing, form, content, public-notice periods, and accompanying support materials for tariffs. Section 61.3 sets out definitions for terms used in this Part.

Need: Sections 61.3 (qq) through (zz) were adopted to define terms used elsewhere in the Commission's tariff regulations applicable to interstate, domestic, interexchange services.

Legal Basis: 47 U.S.C. 151, 154(i), 154(j), 201-205 and 403.

Section Number and Title:

61.3(qq) through (zz)—Definitions.

Subpart E—General Rules for Dominant Carriers

Brief Description: The Part 61 rules are designed to implement the provisions of sections 201, 202, 203, and 204 of the Communications Act of 1934, as amended, and help ensure that rates are just, reasonable, and not unjustly or unreasonably discriminatory. These rules govern the filing, form, content, public notice periods, and accompanying support materials for tariffs. Section 61.42 identifies which services carriers are to include in their price cap baskets. These price-cap baskets are then used, among other things, in determining price-cap indices and price cap regulation generally.

Need: Section 61.42(e)(3) was adopted to specify to carriers what service categories and subcategories they must include in their Actual Price Index (API) for the special access services basket. The API is used in connection with any price-cap tariff filing proposing rate changes.

Legal Basis: 47 U.S.C. 151, 154(i), 154(j), 201-205 and 403.

Section Number and Title:

61.42(e)(3)—Price cap baskets and service categories.

Part 64—Miscellaneous Rules Relating to Common Carriers

Subpart D—Procedures for Handling Priority Services in Emergencies

Brief Description: Section 64.402 specifies that commercial mobile radio service providers that elect to provide priority access service to National Security and Emergency Preparedness personnel must adhere to uniform operating protocols.

Need: These provisions are necessary to implement the Commission's responsibility to provide, in the most efficient manner, access to communications infrastructures in order to respond effectively to emergency and disaster situations.

Legal Basis: 47 U.S.C. 202, 205, 302 and 303.

Section Number and Title:

64.402—Policies and procedures for the provision of priority access service by commercial mobile radio service providers.

Part 68—Connection of Terminal Equipment to the Telephone Network

Subpart C—Terminal Equipment Approval Procedures

Brief Description: Part 68, Subpart C, sets forth the rules under which terminal equipment is approved and associated inside (or “premises”) wiring may be connected to the public telephone network. Section 68.213, in particular, establishes rules for “unprotected” premises wiring in simple installations of up to four-line telephone service. The rules authorize premises owners or customers to install and/or maintain wiring on the customer side of the demarcation point, provided that conditions set forth in the rules are met. The rules also establish material requirements for wire and connectors used in such installations, including electrical and labeling requirements.

Need: These rules provide uniform standards to protect the public telephone network from harms caused by terminal equipment and the associated wiring thereto, and ensure that consumer utility of traditional voiceband and advanced services will not be hampered by poor quality inside wiring, while enabling terminal equipment and premises wiring to be provided competitively.

Legal Basis: 47 U.S.C. 151, 154(i), 151(j), 161, 201-205 and 218, 220, 256, 405, and 5 U.S.C. sections 552 and 553.

Section Number and Title:

68.213(c)—Installation of other than “fully protected” non-system simple customer premises wiring.

Part 69—Access Charges

Subpart C—Computation of Charges for Price Cap Local Exchange Carriers

Brief Description: The Part 69 rules are designed to implement the provisions of sections 201 and 202 of the Communications Act of 1934, as amended, and protect consumers by preventing the exercise of market power by incumbent LECs. These rules help ensure that rates are just, reasonable, and not unjustly or unreasonably discriminatory. Specifically, § 69.158 facilitates the phase out of implicit subsidies in the access charge regime by making the recovery of LEC universal service charges from end users explicit.

Need: Section 69.158 allows for the LECs' recovery of charges for an explicit, portable interstate access universal service support mechanism.

Legal Basis: 47 U.S.C. 154, 201-203, 205, 218, 220, 254 and 403.

Section Number and Title:

69.15—Universal service end user charges.

Part 73—Radio Broadcast Services

Subpart B—FM Broadcast Stations

Brief Description: This rule identifies Part G as the part of the rules which establish protection standards for full-power stations from the operations of LPFM stations.

Need: This rule clarifies the structure of the FM interference protection scheme.

Legal Basis: 47 U.S.C. 154 and 303.

Section Number and Title:

73.209(c)—Protection from interference.

Brief Description: This rule sets forth a transition rule for stations previously licensed under more permissive Class C antenna height and power requirements.

Need: This rule is needed to provide a basis for a certain class of stations to retain their rights as Class C stations.

Legal Basis: 47 U.S.C. 154 and 303.

Section Number and Title:

73.211(d)—Power and antenna height requirements.

Subpart D—Noncommercial Educational FM Broadcast Stations

Brief Description: This rule identifies Part K as the part of the rules which set forth the procedures for choosing among mutually exclusive applications for noncommercial educational FM stations.

Need: This rule clarifies the structure of the noncommercial educational FM licensing rules.

Legal Basis: 47 U.S.C. 154 and 303.

Section Number and Title:

73.503(e)—Licensing requirements and service.

Brief Description: This rule identifies Part I as the part of the rules which set forth the procedures for choosing among mutually exclusive applications in circumstances in which at least one commercial FM application is mutually exclusive with at least one noncommercial educational FM application.

Need: This rule clarifies the structure of the commercial and noncommercial educational FM licensing rules.

Legal Basis: 47 U.S.C. 154, 303 and 309.

Section Number and Title:

73.513(b)—Noncommercial educational FM stations operating on unreserved channels.

Brief Description: This rule identifies Part G as the part of the rules which establish protection standards for noncommercial educational full-power stations from the operations of LPFM stations.

Need: This rule clarifies the structure of the FM interference protection scheme.

Legal Basis: 47 U.S.C. 154 and 303.

Section Number and Title:

73.514—Protection from interference.

Brief Description: This rule sets forth community of license signal coverage requirements for noncommercial educational FM stations.

Need: This rule is necessary to ensure that every noncommercial educational station provides an adequate strength signal to its community of license.

Legal Basis: 47 U.S.C. 154, 303 and 307.

Section Number and Title:

73.515—NCE FM transmitter location.

Subpart E—Television Broadcast Stations

Brief Description: This rule provides the criteria that an applicant for a new full power television station or modification to existing full power television station must meet in order to protect a Class A television station.

Need: Protection criteria is necessary to protect the operations of Class A television stations and to ensure that new or modified full power television station operate without creating harmful interference.

Legal Basis: 47 U.S.C. 154, 303, 334 and 336.

Section Number and Title:

73.613—Protection of Class A TV stations.

Brief Description: This rule specifies that mutually exclusive applications for noncommercial educational TV stations operating on reserved channels shall be resolved pursuant to the point system.

Need: The point system is needed to continue to foster the growth of noncommercial broadcasting. The point system clearly expresses the public interest factors that the Commission finds important in noncommercial educational broadcasters and selects the applicant who best exemplifies those criteria in an objective manner.

Legal Basis: 47 U.S.C. 154, 303, 334 and 336.

Section Number and Title:

73.621(h)—Noncommercial educational TV stations.

Brief Description: This rule specifies that DTV station applications proposing to expand the DTV station's authorized service area must not cause interference to a Class A TV station or a digital Class A TV Station.

Need: This rule is required because Class A licensees have “primary” status as television broadcasters; thereby they have a measure of protection from full-service DTV television stations.

Legal Basis: 47 U.S.C. 154, 303, 334 and 336.

Section Number and Title:

73.623(c)(5), (d) and (e)—DTV applications and changes to DTV allotments.

Subpart G—Low Power FM Broadcast Stations (LPFM)

Brief Description: This rule sets forth complaint and license modification procedures for LPFM stations causing interference to full-power stations operating on third adjacent channels.

Need: The Local Community Radio Act, enacted on January 4, 2011, requires the Commission to modify its rules to eliminate third-adjacent minimum distance separation requirements between LPFM stations and FM, FM translator, and FM booster stations. The Commission will initiate a rulemaking in 2011 to conform this rule to the new legislation.

Legal Basis: 47 U.S.C. 154, 303 and 316.

Section Number and Title:

73.810—Third adjacent channel complaint and license modification procedure.

Brief Description: This rule sets forth complaint procedures in circumstances in which an LPFM station causes interference to the input signal of an FM translator or FM booster station.

Need: The Local Community Radio Act changed the distance separation requirements between LPFM stations and FM translators and FM booster stations. The Commission will initiate a rulemaking in 2011 to conform these complaint procedures to the new legislation.

Legal Basis: 47 U.S.C. 154, 303 and 316.

Section Number and Title:

73.827—Interference to the input signals of FM translator or FM booster stations.

Subpart H—Rules Applicable to All Broadcast Stations

Brief Description: This rule requires each broadcast station to maintain a local or toll-free telephone number in its community of license.

Need: This rule is necessary to promote the localism goals on which the main studio rule is based.

Legal Basis: 47 U.S.C. 154, 303 and 307.

Section Number and Title:

73.1125(e)—Station main studio location.

Brief Description: This rule identifies part K as the part of the rules which sets forth restrictions on the assignment or transfer of licenses awarded pursuant to noncommercial educational comparative procedures.

Need: This rule is unnecessary. The applicability of the part K rules and their requirements are clearly set forth therein.

Legal Basis: 47 U.S.C. 154, 303 and 309.

Section Number and Title:

73.1150(d)—Transferring a station.

Brief Description: This rule provides the maximum level that may be exceeded by the carrier frequency of a station in the Class A Television Service.

Need: This rule is necessary so that parties seeking to construct stations in the Class A Television Service may specify their proposed facilities and the Commission staff review such facilities before granting a construction permit.

Legal Basis: 47 U.S.C. 336(f).

Section Number and Title:

73.1545(e)—Carrier frequency departure tolerances.

Brief Description: This rule sets forth the procedures for LPFM stations to operate pursuant to program test authority.

Need: This rule is necessary to permit the prompt initiation of authorized new service from LPFM stations.

Legal Basis: 47 U.S.C. 154 and 303.

Section Number and Title:

73.1620(a)(5)—Program tests.

Brief Description: This rule sets forth the minimum number of hours that stations in the Class A Television Service must operate each week.

Need: This rule is necessary so that stations in the Class A Television Service continue to fully utilize their assigned channel and to serve the public interest.

Legal Basis: 47 U.S.C. 336(f).

Section Number and Title:

73.1740(a)(5)—Minimum operating schedule.

Brief Description: This rule provides that stations in the Class A Television Service must maintain documentation in their local public inspection file as to their Class A TV continuing eligibility.

Need: This rule is necessary so that stations are able to demonstrate that they continue to be eligible for Class A TV status and so that the public and Commission staff can verify their claimed eligibility.

Legal Basis: 47 U.S.C. 336(f).

Section Number and Title:

73.3526(e)(17)—Local public inspection file of commercial stations.

Brief Description: This rule provides that stations in the Class A Television Service must give notice of the filing of an application for license.

Need: This rule is necessary so that the public is made aware of the filing of an application for license by a station in the Class A Television Service and the procedures for commenting on such application.

Legal Basis: 47 U.S.C. 336(f).

Section Number and Title:

73.3580(d)(5)—Local public notice of filing of broadcast applications.

Brief Description: This rule sets forth the procedures for filing petitions to deny requests for the involuntary downgrading of Class C FM stations to Class C0.

Need: This rule is necessary to clarify the pleading procedures that apply in circumstances in which an application is filed which is mutually exclusive with an authorized Class C station operating at less than full Class C antenna height and/or power minimum requirements.

Legal Basis: 47 U.S.C. 154 and 303.

Section Number and Title:

73.3584(d)—Procedure for filing petitions to deny.

Subpart J—Class A Television Broadcast Stations

Brief Description: This rule provides the definitions that will be used throughout subpart J of 47 CFR part 73.

Need: Certain terms need to be defined so as to make clear their usage in subpart J of 47 CFR Part 73 and to avoid having to restate their definition each time they are used.

Legal Basis: 47 U.S.C. 336(f).

Section Number and Title:

73.6000—Definitions.

Brief Description: This rule provides the procedures that applicants seeking new facilities in the Class A Television Service must follow to obtain a construction permit for such facilities and the required types of service they must provide in order to retain their Class A status.

Need: These procedures and policies are necessary in order that applicants for new Class A Television Service may specify their proposed facilities and the Commission staff review such facilities before granting a construction permit.

Legal Basis: 47 U.S.C. 336(f).

Section Number and Title:

73.6001—Eligibility and service requirements.

Brief Description: This rule provides the requirements that applicants seeking new facilities in the Class A Television Service must meet in order to obtain a station in this service.

Need: It is necessary to set out the qualifications for Class A television stations so that applicants for these facilities can make a demonstration of eligibility in their applications and Commission staff can review their qualifications prior to granting a construction permit.

Legal Basis: 47 U.S.C. 336(f).

Section Number and Title:

73.6002—Licensing requirements.

Brief Description: This rule provides the channels that are not available to applicants for Class A television stations.

Need: A list of channels that are not available for Class A television stations is necessary so that applicants in this service may decide the best operational channel for their new facility.

Legal Basis: 47 U.S.C. 336(f).

Section Number and Title:

73.6006—Channel assignments.

Brief Description: This rule provides the power limitations for applicants seeking Class A television stations.

Need: This rule is necessary so that applicants for Class A television stations don't specify too great an operational power and so applicants may decide the best operational parameters for their new facility.

Legal Basis: 47 U.S.C. 336(f).

Section Number and Title:

73.6007—Power limitations.

Brief Description: This rule provides the method for applicants seeking Class A television stations to make distance computations between two reference points.

Need: This rule is necessary so that applicants for Class A television stations are able to correctly calculate the distance between two reference points in their applications and to properly configure the operational parameters for their new facility.

Legal Basis: 47 U.S.C. 336(f).

Section Number and Title:

73.6008—Distance computations.

Brief Description: This rule outlines the operational area of a Class A television station that must be protected from harmful interference by other broadcast stations.

Need: This rule is necessary so that applicants for broadcast facilities will know that operational area or “contour” of a Class A television station that must be protected from harmful interference so that such applicants are able to properly configure the operational parameters for their new facility.

Legal Basis: 47 U.S.C. 336(f).

Section Number and Title:

73.6010—Class A TV station protected contour.

Brief Description: This rule outlines those full power television stations that Class A television stations must protect from harmful interference.

Need: This rule is necessary so that applicants for Class A television stations will be able to determine which full power television stations they must protect from harmful interference so that such applicants are able to properly configure the operational parameters of their new facility.

Legal Basis: 47 U.S.C. 336(f).

Section Number and Title:

73.6011—Protection of TV broadcast stations.

Brief Description: This rule outlines those Class A television, low power television and TV translator stations that a Class A television station seeking to modify its facilities must protect from harmful interference.

Need: This rule is necessary so that applicants for modification to a Class A television station will be able to determine which broadcast stations they must protect from harmful interference so that such applicants are able to properly configure the operational parameters of their new facility.

Legal Basis: 47 U.S.C. 336(f).

Section Number and Title:

73.6012—Protection of Class A TV, low power TV and TV translator stations.

Brief Description: This rule outlines those full power digital television stations that a Class A television station seeking to modify its facilities must protect from harmful interference.

Need: This rule is necessary so that applicants for modification to a Class A television station will be able to determine which full power digital television stations they must protect from harmful interference so that such applicants are able to properly configure the operational parameters of their new facility.

Legal Basis: 47 U.S.C. 336(f).

Section Number and Title:

73.6013—Protection of DTV stations.

Brief Description: This rule outlines those Class A digital television stations that a Class A television station seeking to modify its facilities must protect from harmful interference.

Need: This rule is necessary so that applicants for modification to a Class A television station will be able to determine which Class A digital television stations they must protect from harmful interference so that such applicants are able to properly configure the operational parameters of their new facility.

Legal Basis: 47 U.S.C. 336(f).

Section Number and Title:

73.6014—Protection of digital Class A TV stations.

Brief Description: This rule outlines those full power television stations that a digital Class A television station seeking to modify its facilities must protect from harmful interference.

Need: This rule is necessary so that applicants for modification to a digital Class A television station will be able to determine which full power television stations they must protect from harmful interference so that such applicants are able to properly configure the operational parameters of their new facility.

Legal Basis: 47 U.S.C. 336(f).

Section Number and Title:

73.6016—Digital Class A TV station protection of TV broadcast stations.

Brief Description: This rule outlines those Class A television and digital Class A television stations that a digital Class A television station seeking to modify its facilities must protect from harmful interference.

Need: This rule is necessary so that applicants for modification to a digital Class A television station will be able to determine which Class A and digital Class A television stations they must protect from harmful interference so that such applicants are able to properly configure the operational parameters of their new facility.

Legal Basis: 47 U.S.C. 336(f).

Section Number and Title:

73.6017—Digital Class A TV station protection of Class A TV and digital Class A TV stations.

Brief Description: This rule outlines those full power digital television stations that a digital Class A television station seeking to modify its facilities must protect from harmful interference.

Need: This rule is necessary so that applicants for modification to a digital Class A television station will be able to determine which full power digital television stations they must protect from harmful interference so that such applicants are able to properly configure the operational parameters of their new facility.

Legal Basis: 47 U.S.C. 336(f).

Section Number and Title:

73.6018—Digital Class A TV station protection of DTV stations.

Brief Description: This rule outlines those low power television, TV translator, digital low power television and digital TV translator stations that a digital Class A television station seeking to modify its facilities must protect from harmful interference.

Need: This rule is necessary so that applicants for modification to a digital Class A television station will be able to determine which low power television, TV translator, digital low power television and digital TV translator stations they must protect from harmful interference so that such applicants are able to properly configure the operational parameters of their new facility.

Legal Basis: 47 U.S.C. 336(f).

Section Number and Title:

73.6019—Digital Class A TV station protection of low power TV, TV translator, digital low power TV and digital TV translator stations.

Brief Description: This rule outlines those stations in the land mobile radio service that a digital Class A television station seeking to modify its facilities must protect from harmful interference.

Need: This rule is necessary so that applicants for modification to a digital Class A television station will be able to determine which stations in the land mobile radio service they must protect from harmful interference so that such applicants are able to properly configure the operational parameters of their new facility.

Legal Basis: 47 U.S.C. 336(f).

Section Number and Title:

73.6020—Protection of stations in the land mobile radio service.

Brief Description: This rule provides that Class A television stations may negotiate interference agreements with full power television, digital full power television, low power television, TV translator and other Class A television stations.

Need: This rule is necessary so that Class A television stations will know the parameters by which they may negotiate interference agreements so that Class A television stations are able to properly configure the operational parameters of their facilities.

Legal Basis: 47 U.S.C. 336(f).

Section Number and Title:

73.6022—Negotiated interference and relocation agreements.

Brief Description: This rule provides that Class A television stations may operate distributed transmission systems.

Need: This rule is necessary so that Class A television stations understand that they may operate distributed transmission systems in order to properly configure the operational parameters of their facilities.

Legal Basis: 47 U.S.C. 336(f).

Section Number and Title:

73.6023—Distributed transmission systems.

Brief Description: This rule provides the transmission standards and system requirements that Class A television stations must follow.

Need: This rule is necessary so that Class A television stations understand how they may operate their stations in order to properly configure the operational parameters of their facilities.

Legal Basis: 47 U.S.C. 336(f).

Section Number and Title:

73.6024—Transmission standards and system requirements.

Brief Description: This rule provides the standards that must be followed by Class A television stations when designing their antenna systems and their locations.

Need: This rule is necessary so that Class A television stations understand how to design their antenna systems and where to locate their antennas in order to properly configure the operational parameters of their facilities.

Legal Basis: 47 U.S.C. 336(f).

Section Number and Title:

73.6025—Antenna system and station location.

Brief Description: This rule provides all of the broadcast regulations applicable to other stations in the broadcast services that are also applicable to Class A television stations.

Need: This rule is necessary so that Class A television stations understand which broadcast regulations they are required to follow.

Legal Basis: 47 U.S.C. 336(f).

Section Number and Title:

73.6026—Broadcast regulations applicable to Class A television stations.

Brief Description: This rule provides all applicants for new or modified Class A television stations must provide certain notifications to radio astronomy, research and receiving installations.

Need: This rule is necessary so that applicants for Class A television stations understand which radio astronomy, research and receiving installations they must notify in order to prevent harmful interference to such facilities.

Legal Basis: 47 U.S.C. 336(f).

Section Number and Title:

73.6027—Class A TV notifications concerning interference to radio astronomy, research and receiving installations.

Part 74—Experimental Radio, Auxiliary, Special Broadcast and Other Program Distributional Services

Subpart D—Remote Pickup Broadcast Stations

Brief Description: Subpart D contains rules and licensing requirements applicable to Remote Pickup Broadcast Stations.

Need: The revised rule makes licensees of low power FM stations eligible to hold licenses for remote pickup broadcast stations.

Legal Basis: 47 U.S.C. 154, 303, 307, 336(f), 336(h) and 554.

Section Number and Title:

74.432—Licensing requirements and procedures.

Subpart E—Aural Broadcast Auxiliary Stations

Brief Description: Subpart E contains rules and licensing requirements applicable to Aural Broadcast Auxiliary Stations.

Need: The revised rules make licensees of low power FM stations eligible to hold licenses for aural broadcast auxiliary stations and updates frequency assignments to reflect the reallocation of frequencies in the 18 GHz band to the Fixed Satellite Service and the grandfathering of existing facilities.

Legal Basis: 47 U.S.C. 154, 303, 307, 336(f), 336(h) and 554.

Section Number and Title:

74.502—Frequency assignment.

74.532—Licensing requirements.

74.551—Equipment changes.

Subpart F—Television Broadcast Auxiliary Stations

Brief Description: Subpart F contains rules and licensing requirements applicable to Television Broadcast Auxiliary Stations.

Need: The revised rules make Class A TV stations eligible to hold licenses for Television Broadcast Auxiliary Stations, required Mobile-Satellite Service (MSS) licensees in the reallocated 1990-2025 MHz and 2165-2200 MHz bands to bear the cost of relocating Broadcast Auxiliary Service licensees in the 1990-2110 MHz band, and updates frequency assignments to reflect the reallocation of frequencies in the 18 GHz band to the Fixed Satellite Service and the grandfathering of existing facilities.

Legal Basis: 47 U.S.C. 154, 303, 307, 336(f), 336(h) and 554.

Section Number and Title:

74.600—Eligibility for license.

74.601—Classes of TV broadcast auxiliary stations.

74.602—Frequency assignment.

74.638—Frequency coordination.

74.651—Equipment changes.

74.690—Transition of the 1990-2025 MHz band from the Broadcast Auxiliary Service to emerging technologies.

Subpart G—Low Power TV, TV Translator, and TV Booster Stations

Brief Description: This rule provides the criteria that an applicant for a new low power television, TV translator or TV booster station or modification to same must meet in order to protect a Class A television station.

Need: Protection criteria is necessary to protect the operations of Class A television stations and to ensure that new or modified low power television, TV translator and TV booster stations operate without creating harmful interference.

Legal Basis: 47 U.S.C. 154, 303, 334 and 336.

Section Number and Title:

74.708—Class A TV and digital Class A TV station protection.

Part 76—Multichannel Video and Cable Television Service

Subpart D—Carriage of Television Broadcast Signals

Brief Description: These rules specify the procedures to be used in negotiation of retransmission consent agreements between multichannel video programmers (MVPDs) and broadcast stations under which the MVPDs are permitted to transmit the programming of those broadcast stations.

Need: The rules require that parties negotiate in good faith and establish time limits for complaints in order to ensure that retransmission of broadcast programming may be accomplished.

Legal Basis: 47 U.S.C. 325(b)(3)(C).

Section Number and Title:

76.65—Good faith and exclusive retransmission consent complaints.

Subpart E—Equal Employment Opportunity Requirements

Brief Description: These rules require that multichannel video programming distributors (MVPDs) provide equal opportunity in employment and that MVPDs analyze on an ongoing basis their efforts to recruit, hire, promote and use services without discrimination.

Need: This requirement helps to ensure that MVPDs provide equal opportunity in employment.

Legal Basis: 47 U.S.C. 554.

Section Number and Title:

76.75(g)—Specific EEO program requirements.

Brief Description: These rules require that equal opportunity in employment be afforded by multichannel video programming distributors (MVPDs) to all qualified persons and no person shall be discriminated against in employment. The Commission may issue appropriate sanctions for violation of EEO rules.

Need: Enforcement of the EEO rules is required to ensure compliance.

Legal Basis: 47 U.S.C. 634.

Section Number and Title:

76.77(f)—Reporting requirements and enforcement.

Subpart J—Ownership of Cable Systems

Brief Description: These rules establish limits for ownership, control, and operation of a cable operator by another cable operator, and more specifically, limits on carriage of vertically integrated programming and related recordkeeping requirements.

Need: Recordkeeping requirements referenced in this rule are needed to ensure that cable operators document the nature and extent of their attributable interests in all video programming services.

Legal Basis: 47 U.S.C. 533(f).

Section Number and Title:

76.504—Limits on carriage of vertically integrated programming.

Subpart K—Technical Standards

Brief Description: Cable operators shall be responsible for ensuring that their systems are designed, installed, and operated in a manner that complies with the technical standards of this subpart and shall ensure that their systems are compatible with commercially available consumer electronics equipment.

Need: These rules are required to ensure that cable systems do not scramble the basic tier of programming service and permit the operation of commercially available remote control customer premises equipment.

Legal Basis: 47 U.S.C. 549.

Section Number and Title:

76.630—Compatibility with consumer electronics equipment.

Subpart N—Cable Rate Regulation

Brief Description: These rules define the obligations of cable operators subject to rate regulation, in particular the limits imposed on cable operators' ability to charge subscribers for changes in subscriber services.

Need: The statute requires adoption of rate regulations and imposes limits on charges that cable operators can impose on subscribers.

Legal Basis: 47 U.S.C. 543.

Section Number and Title:

76.980—Charges for customer changes.

Subpart S—Open Video Systems

Brief Description: These rules provide for the certification and programming requirements for open video systems, including recordkeeping requirements.

Need: Maintenance of records documenting nondiscrimination is needed.

Legal Basis: 47 U.S.C. 573.

Section Number and Title:

76.1503(c)(2)(ii)—Carriage of video programming providers on open video systems.

Subpart T—Notices

Brief Description: These rules require cable operators to provide notice to subscribers on a wide assortment of requirements set out in other sections of the part 76.

Need: Time periods are established for cable operator responses to subscribers, franchise authorities, the Commission, and other entities to ensure compliance with cable operator obligations.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.1601—Deletion or repositioning of broadcast signals.

76.1602—Customer service—general information.

76.1603—Customer service—rate and service changes.

76.1604—Charges for customer service changes.

76.1605—New product tier.

76.1606—Rate change while complaint pending.

76.1607—Principal headend.

76.1608—System technical integration requiring uniform election of must-carry or retransmission of consent status.

76.1609—Non-duplication and syndicated exclusivity.

76.1610—Change of operational information.

76.1611—Political cable rates and classes of time.

76.1612—Personal attack.

76.1613—Political editorials.

76.1614—Identification of must-carry signals.

76.1515—Sponsorship identification.

76.1616—Contracts with local exchange carriers.

76.1617—Initial must-carry notice.

76.1618—Basic tier availability.

76.1619—Information on subscriber bills.

76.1620—Availability of signals.

76.1621—Equipment compatibility offer.

76.1622—Consumer education program on compatibility.

Subpart U—Documents To Be Maintained for Inspection

Brief Description: These rules require cable operators to maintain records on a wide assortment of matters including a political file, EEO, children's programming, signal leakage, OVS requests for carriage, performance tests, and subscribers.

Need: These records are needed to document compliance with various regulatory requirements.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.1700—Records to be maintained by cable system operators.

76.1701—Political file.

76.1702—Equal employment opportunity.

76.1703—Commercial records on children's programs.

76.1704—Proof-of-performance test data.

76.1705—Performance test (channels delivered).

76.1706—Signal leakage logs and repair records.

76.1707—Leased access.

76.1708—Principal headend.

76.1709—Availability of signals.

76.1710—Operator interests in video programming.

76.1711—Emergency alert system (EAS) tests and activation.

76.1712—Open video system (OVS) requests for carriage.

76.1713—Complaint resolution.

76.1714—FCC rules and regulations.

76.1715—Sponsorship identification.

76.1716—Subscriber records and public inspection file.

Subpart V—Reports and Filings

Brief Description: These rules require cable operators to file reports with the Commission on such matters as registration statements, signal leakage monitoring, annual employment reports, and alternative rate regulation agreements.

Need: These rules are necessary to ensure cable operator compliance with related regulatory requirements.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572 and 573.

Section Number and Title:

76.1800—Additional reports and filings.

76.1801—Registration statement.

76.1802—Annual employment report.

76.1803—Signal leakage monitoring.

76.1804—Aeronautical frequencies: Leakage monitoring (CLI).

76.1805—Alternative rate regulation agreements.

Part 80—Stations in the Maritime Services

Subpart B—Applications and Licenses

Brief Description: Part 80 contains rules relating to stations in the maritime services. Subpart B set forth rules regarding applications and licenses in those services.

Need: This rule notifies each Automated Maritime Telecommunications System (AMTS) coast station geographic area licensee that it must make a showing of substantial service within its service area within ten years of the initial license grant, or the authorization becomes invalid and must be returned to the Commission for cancellation.

Legal Basis: 47 U.S.C. 154, 303, 307(e), 309, and 332; 47 U.S.C. 151-155, 301-609; 3 U.S.T. 3450, 3 U.S.T. 4726 and 12 U.S.T. 2377.

Section Number and Title:

80.49(a)(3)—Construction and regional service requirements.

Subpart J—Public Coast Stations

Brief Description: Part 80 contains rules relating to stations in the maritime services. Subpart J, as it relates to Automated Maritime Telecommunications System (AMTS) licensees, sets forth rules on the scope of service, points of communication, frequency use and assignment, and various technical matters.

Need: These rules are meant to prevent harmful interference between an AMTS licensee and broadcasters of television channels 13 and 10; they also permit AMTS licensees to use coast and ship frequencies on a secondary basis to support AMTS deployment in remote fixed locations where other communications facilities are not available; and give AMTS licensees the ability to use any modulation or channelization scheme, as long as that scheme complies with Section 80.211 at the band edges.

Legal Basis: 47 U.S.C. 154, 303, 307(e), 309, and 332; 47 U.S.C. 151-155, 301-609; 3 U.S.T. 3450, 3 U.S.T. 4726 and 12 U.S.T. 2377.

Section Number and Title:

80.475(b)—Scope of service of the Automated Maritime Telecommunications System (AMTS).

80.477(d)—AMTS points of communication.

80.481—Alternative technical parameters for AMTS transmitters.

Part 90—Private Land Mobile Radio Services

Subpart B—Public Safety Radio Pool

Brief Description: These rules contain limitations on the assignment of channels in the Public Safety Radio Pool.

Need: In implementing the goal of efficient spectrum use, these rules list technical and geographic limitations applicable to each frequency in the Public Safety Radio Pool.

Legal Basis: 47 U.S.C. 154, 161, 303 and 332.

Section Number and Title:

90.20(d)(80) through (d)(83); 90.20(g)—Public safety pool.

Subpart C—Industrial/Business Radio Pool

Brief Description: Part 90 contains the Commission rules governing private land mobile radio services. Subpart C sets forth the rules relating to the industrial/business radio pool.

Need: This rules explains the assignment limitations of the Industrial/Business Pool Frequency Table, 47 CFR 90.35(b)(3), specifically, that after January 1, 2005, all stations operating with an authorized bandwidth greater than 11.25 kHz will be secondary to adjacent channel public safety interoperability operations.

Legal Basis: 47 U.S.C. 154(i), 161, 303(g), 303(r) and 332(c)(7).

Section Number and Title:

90.35(c)(82)—Industrial/Business pool.

Subpart H—Policies Governing the Assignment of Frequencies

Brief Description: These rules promote efficient spectrum use and nationwide interoperability. First, applications for 700 MHz narrowband low power itinerant use channels are exempt from frequency coordination. Second, these rules authorize public safety licensees to share their facilities on a non-profit cost-shared basis with Federal Government entities as well as permit Industrial Business Pool licensees to share their facilities with Public Safety Pool entities and Federal Government entities.

Need: In implementing the goals of efficient spectrum use and nationwide interoperability, these rules eliminate regulatory burdens on public safety entities.

Legal Basis: 47 U.S.C. 154(i), 161, 303(g), 303(r) and 332(c)(7).

Section Number and Title:

90.175(j)(15)—Frequency coordinator requirements.

90.179(g) and (h)—Shared use of radio stations.

Subpart I—General Technical Standards

Brief Description: Part 90 contains the Commission rules governing private land mobile radio (PLMR) services. Subpart I sets forth the various technical standards with which a PLMR licensee must comply, including standards for acceptability of equipment, frequency tolerance, modulation, emissions, power, and bandwidths.

Need: This rule requires that mobile and portable voice-transmitting equipment operating on 150-174 MHz and 450-470 MHz bands be capable of operating on the corresponding nationwide public safety interoperability calling channel.

Legal Basis: 47 U.S.C. 154(i), 161, 303(g), 303(r) and 332(c)(7).

Section Number and Title:

90.203(j)(1)—Certification required.

Subpart R—Regulations Governing the Licensing and Use of Frequencies in the 763-775 and 793-805 MHz Bands

Brief Description: Subpart R sets forth the rules governing the licensing and operations of all systems operating in the 763-775 MHz and 793-805 MHz frequency bands. The 769-775/799-805 MHz segment is allocated for narrowband operations. In the narrowband segment, these rules allow the licensing of the 700 MHz General Use Narrowband Channels for assignment to public safety eligibles, subject to Commission approved regional planning committee (RPC) regional plans. The Narrowband State Channels are directly licensed to each state (including U.S. territories, districts, and possessions) and are subject to certain licensing conditions. The Narrowband Low Power Itinerant Channels are licensed for nationwide itinerant operation and are not subject to regional planning or frequency coordination. These rules also specify transmitter power and emission limits to avoid interference and promote efficient spectrum use.

Need: In implementing the goal of nationwide interoperability, these rules designate public safety spectrum for day to day operational needs as well as nationwide voice interoperability, while providing technical requirements to avoid interference and increase spectrum efficiency.

Legal Basis: 47 U.S.C. 154(i), 161, 303(g), 303(r) and 332(c)(7).

Section Numbers and Title:

90.529—State license.

90.531(b)(4) through (b)(6)—Band plan.

90.541(d)—Transmitting power limits.

90.543(f) and (g)—Emission limits.

Subpart S—Regulations Governing Licensing and Use of Frequencies in the 806-824, 851-869, 896-901, and 935-940 MHz Bands

Brief Description: Part 90 contains the Commission rules governing private land mobile radio services. Subpart S sets forth the rules governing the licensing and operations of all systems operating in the 806-824/851-869 MHz and 896-901/935-940 MHz bands, including eligibility requirements, and operational and technical standards for stations licensed in these bands.

Need: These rules state that local governments applying for Public Safety Pool frequencies are bound by all applicable rules, and that CMRS licensees that are operating in these bands are subject only to the station identification requirements of § 90.425(e), and not § 90.647(a) through (c).

Legal Basis: 47 U.S.C. 154(i), 161, 303(g), 303(r) and 332(c)(7).

Section Number and Title:

90.629(f)—Extended implementation period.

90.647(d)—Station identification.

Part 95—Personal Radio Services

Subpart D—Citizens Band (CB) Radio Service

Brief Description: Part 95 contains the Commission rules relating to personal radio services. Subpart D sets forth the rules governing the various citizens band services, including the Citizens Band (CB) Radio Service; Family Radio Service (FRS); Low Power Radio Service (LPRS); Medical Device Radiocommunication Service (MedRadio); Wireless Medical Telemetry Service (WMTS); Multi-Use Radio Service (MURS); and Dedicated Short-Range Communications Service On-Board Units (DSRCS-OBUs).

Need: The rule defines WMTS as a private, short distance data communication service for the transmission of patient medical information to a central monitoring location in a hospital or other medical facility, and lists certain conditions under which WMTS may, and may not, operate.

Legal Basis: 47 U.S.C. 154 and 303.

Section Number and Title:

95.401(e)—(CB Rule 1) What are the Citizens Band Radio Services?

Subpart E—Technical Regulations

Brief Description: Part 95 contains the Commission rules relating to personal radio services. Subpart E sets forth the technical standards under which part 95 licensees may operate.

Need: These rules clarify that a Wireless Medical Telemetry Service (WMTS) licensee may transmit any emission type appropriate for communications in this service, except for video and voice; and set forth other technical standards by which WMTS and Multi-Use Radio Service (MURS) licensees must operate.

Legal Basis: 47 U.S.C. 154 and 303.

Section Number and Title:

95.631(i)—Emission types.

95.632—MURS transmitter frequencies.

95.633(f)—Emission bandwidth.

95.635(e)—Unwanted radiation.

95.639(g)—Maximum transmitter power.

Subpart H—Wireless Medical Telemetry Service (WMTS)

Brief Description: Part 95 contains the Commission rules relating to personal radio services. Subpart H sets forth the rules governing the Wireless Medical Telemetry Service (WMTS), which is defined as a private, short distance data communication service for the transmission of patient medical information to a central monitoring location in a hospital or other medical facility.

Need: This subpart sets out the regulations governing the operation of Wireless Medical Telemetry Devices in the 608-614 MHz, 1395-1400 MHz, and 1427-1432 MHz frequency bands.

Legal Basis: 47 U.S.C. 154 and 303.

Section Number and Title:

95.1101—Scope.

95.1103—Definitions.

95.1105—Eligibility.

95.1107—Authorized locations.

95.1109—Equipment authorization requirement.

95.1111—Frequency coordination.

95.1113—Frequency coordinator.

95.1115—General technical requirements.

95.1117—Types of communications.

95.1119—Specific requirements for wireless medical telemetry devices operating in the 608-614 MHz band.

95.1121—Specific requirements for wireless medical telemetry devices operating in the 1395-1400 MHz and 1427-1432 MHz bands.

95.1123—Protection of medical equipment.

95.1125—RF safety.

95.1127—Station identification.

95.1129—Station inspection.

Subpart J—Multi-Use Radio Service (MURS)

Brief Description: Part 95 contains the Commission rules relating to personal radio services. Subpart J sets forth the rules governing the Multi-Use Radio Service (MURS), which is defined as a private, two-way, short-distance voice or data communications service for personal or business activities of the general public.

Need: This subpart sets out technical and other rules regarding the Multi-Use Radio Service (MURS), which is defined as a private, two-way, short-distance voice or data communications service for personal or business activities of the general public.

Legal Basis: 47 U.S.C. 154 and 303.

Section Number and Title:

95.1301—Eligibility.

95.1303—Authorized locations.

95.1305—Station identification.

95.1307—Permissible communications.

95.1309—Channel use policy.

Part 101—Fixed Microwave Services

Subpart A—General

Brief Description: Subpart A contains the general rules pertaining to Commission's scope and authority and definitions.

Need: The revised rules established definitions relevant to the 24 GHz service and Multiple Address Systems.

Legal Basis: 47 U.S.C. 154 and 303.

Section Number and Title:

101.1—Scope and authority.

101.3—Definitions.

Subpart B—Applications and Licenses

Brief Description: Subpart B sets forth the general filing requirements for applications and licenses in the Fixed Microwave Services.

Need: The revised rules modified the buildout requirements for the 38.6-40.0 GHz band, revised the rules relating to the 24 GHz service, updates frequency assignments to reflect the reallocation of frequencies in the 18 GHz band to the Fixed Satellite Service and the grandfathering of existing facilities, requires Mobile Satellite Service licensees to relocate existing Fixed Service licensees in the 2165-2200 MHz bands in cases where sharing between MSS and FS is not possible, and made various editorial changes to the Part 101 rules.

Legal Basis: 47 U.S.C. 154 and 303.

Section Number and Title:

101.4—Transition plan.

101.17—Performance requirements for the 38.6-40.0 GHz frequency band.

101.21—Technical content of applications.

101.31—Temporary and conditional authorizations.

101.45—Mutually exclusive applications.

101.55—Considerations involving transfer or assignment applications.

101.61—Certain modifications not requiring prior authorization in the Local Multipoint Distribution Service and 24 GHz Service.

101.63—Period of construction; certification of completion of construction.

101.69—Transition of the 1850-1990 MHz, 2110-2150 MHz, and 2160-2200 MHz bands from the fixed microwave services to personal communications services and emerging technologies.

101.73—Mandatory negotiations.

101.75—Involuntary relocation procedures.

101.81—Future licensing in the 1850-1990 MHz, 2110-2150 MHz, and 2160-2200 MHz bands.

101.83—Modification of station license.

101.85—Transition of the 18.3-19.3 GHz band from the terrestrial fixed services to the fixed-satellite service (FSS).

101.89—Negotiations.

101.91—Involuntary relocation procedures.

101.95—Sunset provisions for licensees in the 18.30-19.30 GHz band.

101.97—Future licensing in the 18.30-19.30 GHz band.

Subpart C—Technical Standards

Brief Description: Subpart C sets forth technical standards for applications and licenses in the Fixed Microwave Services.

Need: The revised rules establish revised technical standards for the 24 GHz Service, Multiple Address Systems, and Operational Fixed Stations.

Legal Basis: 47 U.S.C. 154 and 303.

Section Number and Title:

101.101—Frequency availability.

101.103—Frequency coordination procedures.

101.105—Interference protection criteria.

101.109—Bandwidth.

101.111—Emission limitations.

101.113—Transmitter power limitations.

101.115—Directional antennas.

101.135—Shared use of radio stations and the offering of private carrier service.

101.139—Authorization of transmitters.

101.141—Microwave modulation.

101.143—Minimum path length requirements.

101.145—Interference to geostationary-satellites.

101.147—Frequency assignments.

Subpart E—Miscellaneous Common Carrier Provisions

Brief Description: Subpart E sets forth miscellaneous provisions applicable to Common Carrier microwave stations.

Need: The revised rules apply requirements relating to discontinuance of service and equal employment opportunities to common carrier operation in the 24 GHz service.

Legal Basis: 47 U.S.C. 154 and 303.

Section Number and Title:

101.305—Discontinuance, reduction or impairment of service.

101.311—Equal employment opportunities.

Subpart G—24 GHz Service and Digital Electronic Message Service

Brief Description: Subpart G sets forth rules for the 24 GHz Service and the Digital Electronic Message Service and provides the provisions implementing Section 309(j) of the Communications Act of 1934, as amended, authorizing the Commission to employ competitive bidding procedures to resolve mutually exclusive applications for initial licenses.

Need: The revised rules establish revised technical and service rules for the 24 GHz Service and implement the Commission's competitive bidding authority under 47 U.S.C. 309(j).

Legal Basis: 47 U.S.C. 151, 154(i), 154(j), 155, 157, 225, 303(r) and 309.

Section Number and Title:

101.501—Eligibility.

101.503—Digital Electronic Message Service Nodal Stations.

101.509—Interference protection criteria.

101.511—Permissible services.

101.521—Spectrum utilization.

101.523—Service areas.

101.525—24 GHz system operations.

101.526—License term.

101.527—Construction requirements for 24 GHz operations.

101.529—Renewal expectancy criteria for 24 GHz licenses.

101.531—[Reserved]

101.533—Regulatory status.

101.535—Geographic partitioning and spectrum aggregation/disaggregation.

101.537—24 GHz band subject to competitive bidding.

101.538—Designated entities.

Subpart J—Local Television Transmission Service

Brief Description: Subpart J sets forth rules for the Local Television Transmission Service.

Need: The revised rules revise the frequency assignments available for the Local Television Transmission Service and revise the requirements applicable to operation of such facilities at temporary fixed locations.

Legal Basis: 47 U.S.C. 154 and 303.

Section Number and Title:

101.803—Frequencies.

101.815—Stations at temporary fixed locations.

Subpart O—Multiple Address Systems

Brief Description: Subpart O sets forth the general provisions, system license requirements, and system requirements for Multiple Address Systems as well as the provisions implementing Section 309(j) of the Communications Act of 1934, as amended, authorizing the Commission to employ competitive bidding procedures to resolve mutually exclusive applications for certain initial licenses.

Need: The Subpart O rules establish service and technical rules applicable to Multiple Address Systems and implement the Commission's competitive bidding authority under 47 U.S.C. 309(j).

Legal Basis: 47 U.S.C. 154, 303 and 309.

Section Number and Title:

101.1301—Scope.

101.1303—Eligibility.

101.1305—Private internal service.

101.1307—Permissible communications.

101.1309—Regulatory status.

101.1311—Initial EA license authorization.

101.1313—License term.

101.1315—Service areas.

101.1317—Competitive bidding procedures for mutually exclusive MAS EA applications.

101.1319—Competitive bidding provisions.

101.1321—License transfers.

101.1323—Spectrum aggregation, disaggregation, and partitioning.

101.1325—Construction requirements.

101.1327—Renewal expectancy for EA licensees.

101.1329—EA Station license, location, modifications.

101.1331—Treatment of incumbents.

101.1333—Interference protection criteria.

[FR Doc. 2011-24973 Filed 9-28-11; 8:45 am]

BILLING CODE 6712-01-P